ENVIRONMENTAL PROTECTION AGENCY

[ER-FRL-9020-5]

Environmental Impact Statements; Notice of Availability

Responsible Agency: Office of Federal Activities, General Information (202) 564-7146 or http://www.epa.gov/compliance/nepa/.

Weekly receipt of Environmental Impact Statements.

Filed 04/06/2015 Through 04/10/2015.

Pursuant to 40 CFR 1506.9.

Notice

Section 309(a) of the Clean Air Act requires that EPA make public its comments on EISs issued by other Federal agencies. EPA's comment letters on EISs are available at: http://www.epa.gov/compliance/nepa/eisdata.html.

EIS No. 20150103, Final EIS, DOI, UT, Provo River Delta Restoration Project, review period ends: 05/18/2015, Contact: W. Russ Findlay 801-379-1084.

EIS No. 20150104, Final EIS, NPS, CA, Channel Islands National Park Final General Management Plan and Wilderness Study, review period ends: 05/18/2015, Contact: Greg Jarvis 303-969-2263.

EIS No. 20150105, Final EIS, USFS, MT, Greater Red Lodge Vegetation and Habitat Management Project, review period ends: 05/18/2015, Contact: Amy Waring 406-255-1451.

EIS No. 20150106, Draft EIS, FERC, LA, Lake Charles Liquefaction Project, comment period ends: 06/01/2015, Contact: Shannon Crosley 202-502-8853.

Amended Notices

WITHDRAWN—EIS No. 20140277, Final EIS, USFS, MT, Greater Red Lodge Vegetation and Habitat Management Project, Contact: Amy Waring 406-255-1451.

Revision to the FR Notice Published 09/24/2014; This document was Officially Withdrawn by the preparing agency.

Dated: April 14, 2015.
Cliff Rader,
Director, NEPA Compliance Division, Office of Federal Activities.

[FR Doc. 2015-08924 Filed 4-16-15; 8:45 am]

BILLING CODE 6560-50-P